DEPARTMENT OF COMMERCE

National Oceanic and Atmospheric Administration

Agency Information Collection Activities; Submission to the Office of Management and Budget (OMB) for Review and Approval; Comment Request; Protocol for Access to Tissue Specimen Samples From the National Marine Mammal Tissue Bank

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 30, 2024, during a 60-day comment period. This notice allows for an additional 30 days for public comments.

Agency: National Oceanic and Atmospheric Administration, Commerce.

Title: Protocol for Access to Tissue Specimen Samples from the National Marine Mammal Tissue Bank.

OMB Control Number: 0648-0468.

Form Number(s): None.

Type of Request: Regular submission (extension of a current information collection).

Number of Respondents: 25.

Average Hours per Response: 3 hours for tissue request form and 45 minutes for tissue bank form.

Total Annual Burden Hours: 105 hours.

Needs and Uses: The purpose of this collection of information is to enable the National Oceanic and Atmospheric Administration (NOAA) to allow the scientific community the opportunity to request tissue specimen samples from the National Marine Mammal Tissue Bank (NMMTB), as well as for tissue samples to be submitted. This information collection is being renewed to enable the Marine Mammal Health and Stranding Response Program (MMHSRP) of NOAA to assemble information on all specimens submitted to the National Institute of Standards and Technology's National Biomonitoring Specimen Bank (Bank), which includes the NMMTB.

Affected Public: Not-for-profit institutions.

Frequency: On occasion.

Respondent's Obligation: Mandatory.

Legal Authority: Under 16 U.S.C. 1421f section 407(d)(1) of the Marine Mammal Protection Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0468.

Sheleen Dumas,
Department PRA Clearance Officer, Office of the Under Secretary for Economic Affairs, Commerce Department.

[FR Doc. 2024-10287 Filed 5-10-24; 8:45 am]

BILLING CODE 3510-22-P